DEPARTMENT OF TRANSPORTATION

Federal Aviation Administration

14 CFR Part 39

[Docket No. FAA-2014-0195; Directorate Identifier 2013-NM-195-AD; Amendment 39-18026; AD 2014-23-10]

RIN 2120-AA64

Airworthiness Directives; The Boeing Company Airplanes

AGENCY: Federal Aviation Administration (FAA), DOT.

ACTION: Final rule.

SUMMARY: We are superseding Airworthiness Directive (AD) 2008-17-03 for certain The Boeing Company Model 737-100, -200, -200C, -300, -400, and -500 series airplanes. AD 2008-17-03 required repetitive inspections to detect fuselage frame cracking, and corrective action if necessary. AD 2008-17-03 also provided for optional terminating action (repair/preventive change) for the repetitive inspections. This new AD adds airplanes to the applicability, but does not provide terminating action for the newly added airplanes. This AD was prompted by reports of cracks found at the cutout in the web of body station frame 303.9 inboard of stringer 16L, as well as a new report of cracking found on an airplane not identified in the applicability of AD 2008-17-03. We are issuing this AD to detect and correct fuselage frame cracking, which could prevent the left forward entry door from sealing correctly, and could cause in-flight decompression of the airplane.

DATES: This AD is effective January 6, 2015.

The Director of the Federal Register approved the incorporation by reference of a certain publication listed in this AD as of January 6, 2015.

The Director of the Federal Register approved the incorporation by reference of certain other publications listed in this AD as of September 23, 2008 (73 FR 48288, August 19, 2008).

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0195; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Nenita Odessa, Aerospace Engineer, Airframe Branch, ANM-120L, FAA, Los Angeles Aircraft Certification Office (ACO), 3960 Paramount Boulevard, Lakewood, California 90712-4137; phone: 562-627-5234; fax: 562-627-5210; email: nenita.odessa@faa.gov.

SUPPLEMENTARY INFORMATION:

Discussion

We issued a notice of proposed rulemaking (NPRM) to amend 14 CFR part 39 to supersede AD 2008-17-03, Amendment 39-15641 (73 FR 48288, August 19, 2008). AD 2008-17-03 applied to certain The Boeing Company Model 737-100, -200, -200C, -300, -400, and -500 series airplanes. The NPRM published in the Federal Register on April 14, 2014 (79 FR 20824). The NPRM was prompted by reports of cracks found at the cutout in the web of body station frame 303.9 inboard of stringer 16L, and the subsequent determination that additional airplanes are subject to the requirements of AD 2008-17-03. The NPRM proposed to continue to require repetitive inspections for fuselage frame cracking and applicable corrective action, add airplanes to the applicability, and to provide optional terminating action (repair/preventive change) for the repetitive inspections for the airplanes subject to AD 2008-17-03. We are issuing this AD to detect and correct fuselage frame cracking, which could prevent the left forward entry door from sealing correctly, and could cause in-flight decompression of the airplane.

Comments

We gave the public the opportunity to participate in developing this AD. The following presents the comments received on the NPRM (79 FR 20824, April 14, 2014) and the FAA's response to each comment.

Effect of Winglets on This AD

Aviation Partners Boeing stated that accomplishing the supplemental type certificate (STC) ST01219SE (http://rgl.faa.gov/Regulatory_and_Guidance_Library/rgstc.nsf/0/ebd1cec7b301293e86257cb30045557a/$FILE/ST01219SE.pdf) does not affect the actions specified in the NPRM (79 FR 20824, April 14, 2014).

We concur with the commenter. We have redesignated paragraphs (c), (c)(1), and (c)(2) of the NPRM (79 FR 20824, April 14, 2014) as paragraphs (c)(1), (c)(1)(i), and (c)(1)(ii) of this AD, and added new paragraph (c)(2) to this AD to state that installation of STC ST01219SE (http://rgl.faa.gov/Regulatory_and_Guidance_Library/rgstc.nsf/0/ebd1cec7b301293e86257cb30045557a/$FILE/ST01219SE.pdf) does not affect the ability to accomplish the actions required by this AD. Therefore, for airplanes on which STC ST01219SE is installed, a “change in product” alternative method of compliance (AMOC) approval request is not necessary to comply with the requirements of 14 CFR 39.17.

Request To Clarify Certain Requirements

All Nippon Airways (ANA) requested that we revise paragraph (i) of the proposed AD (79 FR 20824, April 14, 2014), which added new inspections for Group 2 airplanes in accordance with Boeing Alert Service Bulletin 737-53A1188, Revision 3, dated September 6, 2013. ANA claimed that this requirement included unnecessary procedures for opening and closing access from the aft side of the inspection area because the inspection is required from the forward side. ANA suggested that we include the information in Note 8 of paragraph 3.A., General Instructions, of Boeing Alert Service Bulletin 737-53A1188, Revision 3, dated September 6, 2013, to exclude the unnecessary procedures. Note 8 states, in part, as follows:

If it is necessary to remove more parts for access, you can remove those parts. If you can get access without removing identified parts, it is not necessary to remove all of the identified parts. . . .

We agree with the request. We have revised paragraph (i) in this AD to point to this exception in new paragraph (j)(4) in this AD. We have similarly changed paragraphs (g) and (h) in this AD to also specify this exception.

Conclusion

We reviewed the relevant data, considered the comments received, and determined that air safety and the public interest require adopting this AD with the changes described previously and minor editorial changes. We have determined that these minor changes:

• Are consistent with the intent that was proposed in the NPRM (73 FR 20824, April 14, 2014) for correcting the unsafe condition; and

• Do not add any additional burden upon the public than was already proposed in the NPRM (73 FR 20824, April 14, 2014).

We also determined that these changes will not increase the economic burden on any operator or increase the scope of this AD.

Costs of Compliance

We estimate that this AD affects 148 airplanes of U.S. registry.

We estimate the following costs to comply with this AD:

Estimated Costs: Required Actions
Action | Labor cost | Parts cost | Cost per product | Cost on U.S. operators
Inspection | 31 to 33 work-hours × $85 per hour = up to $2,805 per inspection cycle | $0 | Up to $2,805 per inspection cycle | Up to $415,140 per inspection cycle

Estimated Costs: Optional Modification
Action | Labor cost | Parts cost | Cost per product
Repair/preventive change | 12 to 30 work-hours × $85 per hour = up to $2,550 | $564 to $2,236 | Up to $4,786

We have received no definitive data that would enable us to provide cost estimates for the on-condition actions specified in this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2008-17-03, Amendment 39-15641 (73 FR 48288, August 19, 2008), and adding the following new AD:

2014-23-10 The Boeing Company: Amendment 39-18026; Docket No. FAA-2014-0195; Directorate Identifier 2013-NM-195-AD.

(a) Effective Date

This AD is effective January 6, 2015.

(b) Affected ADs

This AD replaces AD 2008-17-03, Amendment 39-15641 (73 FR 48288, August 19, 2008).

(c) Applicability

(1) This AD applies to The Boeing Company airplanes, certificated in any category, identified in paragraphs (c)(1)(i) and (c)(1)(ii) of this AD.

(i) Model 737-100, -200, -200C, -300, -400, and -500 series airplanes, as identified in Boeing Alert Service Bulletin 737-53A1197, dated August 25, 2006.

(ii) Model 737-300, -400, and -500 series airplanes, as identified in Boeing Alert Service Bulletin 737-53A1188, Revision 3, dated September 6, 2013.

(2) Installation of Supplemental Type Certificate (STC) ST01219SE (http://rgl.faa.gov/Regulatory_and_Guidance_Library/rgstc.nsf/0/ebd1cec7b301293e86257cb30045557a/$FILE/ST01219SE.pdf) does not affect the ability to accomplish the actions required by this AD. For airplanes on which STC ST01219SE (http://rgl.faa.gov/Regulatory_and_Guidance_Library/rgstc.nsf/0/ebd1cec7b301293e86257cb30045557a/$FILE/ST01219SE.pdf) is installed, therefore, a “change in product” alternative method of compliance (AMOC) approval request is not necessary to comply with the requirements of 14 CFR 39.17.

(d) Subject

Air Transport Association (ATA) of America Code 53, Fuselage.

(e) Unsafe Condition

This AD was prompted by reports of cracks found at the cutout in the web of body station frame 303.9 inboard of stringer 16L, and a new report of cracking found on an airplane not included in the applicability of AD 2008-17-03, Amendment 39-15641 (73 FR 48288, August 19, 2008). We are issuing this AD to detect and correct such cracking, which could prevent the left forward entry door from sealing correctly, and could cause in-flight decompression of the airplane.

(f) Compliance

Comply with this AD within the compliance times specified, unless already done.

(g) Retained Repetitive Inspections: Group 1 Airplanes, Boeing Alert Service Bulletin 737-53A1188, Revision 2, Dated May 9, 2007; or Boeing Alert Service Bulletin 737-53A1188, Revision 3, Dated September 6, 2013

This paragraph restates the requirements of paragraph (f) of AD 2008-17-03, Amendment 39-15641 (73 FR 48288, August 19, 2008), with revised service information and airplane groupings. For airplanes identified as Group 1 in Boeing Alert Service Bulletin 737-53A1188, Revision 3, dated September 6, 2013: Do detailed and high frequency eddy current (HFEC) inspections in the web and doubler around the slotted holes in the frame web at stringers 15L and 16L, in accordance with the Accomplishment Instructions of Boeing Alert Service Bulletin 737-53A1188, Revision 2, dated May 9, 2007; or Boeing Alert Service Bulletin 737-53A1188, Revision 3, dated September 6, 2013, except as provided by paragraph (j)(4) of this AD. Do the inspections at the applicable time specified in paragraph 1.E., “Compliance,” of Boeing Alert Service Bulletin 737-53A1188, Revision 3, dated September 6, 2013. Do all applicable corrective actions before further flight in accordance with Boeing Alert Service Bulletin 737-53A1188, Revision 2, dated May 9, 2007; or Boeing Alert Service Bulletin 737-53A1188, Revision 3, dated September 6, 2013; except as provided by paragraph (j)(3) of this AD. Repeat the inspections at intervals not to exceed 4,500 flight cycles, until accomplishment of the repair/preventive change in accordance with Boeing Alert Service Bulletin 737-53A1188, Revision 2, dated May 9, 2007; or Boeing Alert Service Bulletin 737-53A1188, Revision 3, dated September 6, 2013; which terminates the repetitive inspection requirements for the airplanes identified in this paragraph. A repair/preventive change done using Boeing Alert Service Bulletin 737-53A1188, dated April 9, 1998; or Boeing Alert Service Bulletin 737-53A1188, Revision 1, dated March 18, 1999; does not terminate the repetitive inspections, but the repetitive inspections may be terminated after the existing kit is replaced with a new kit in accordance with paragraph 3.B., Part II, step 3, or Part III, step 3, of Boeing Alert Service Bulletin 737-53A1188, Revision 2, dated May 9, 2007. As of the effective date of this AD, only Boeing Alert Service Bulletin 737-53A1188, Revision 3, dated September 6, 2013, may be used to do the actions required by this paragraph.

Note 1 to paragraph (g) of this AD: Airplanes identified as Group 1 in Boeing Alert Service Bulletin 737-53A1188, Revision 3, dated September 6, 2013, are the same as those identified in Boeing Alert Service Bulletin 737-53A1188, Revision 2, dated May 9, 2007.

(h) Retained Repetitive Inspections: Boeing Alert Service Bulletin 737-53A1197, Dated August 25, 2006

This paragraph restates the requirements of paragraph (g) of AD 2008-17-03, Amendment 39-15641 (73 FR 48288, August 19, 2008). For airplanes identified in Boeing Alert Service Bulletin 737-53A1197, dated August 25, 2006: Do an ultrasound inspection of the slot-shaped cutout in the web for the door stop strap at stringer 16L, an HFEC inspection of the web along the upper and lower edges of the doubler around the doorstop strap at stringer 16L, and a detailed inspection of the web around the doubler for the cutout at stringer 16L, in accordance with the Accomplishment Instructions of Boeing Alert Service Bulletin 737-53A1197, dated August 25, 2006, except as provided by paragraph (j)(4) of this AD. Do the inspections at the applicable time specified in paragraph 1.E., “Compliance,” of Boeing Alert Service Bulletin 737-53A1197, dated August 25, 2006, except as provided by paragraph (j)(2) of this AD. Do all applicable corrective actions before further flight in accordance with Boeing Alert Service Bulletin 737-53A1197, dated August 25, 2006, except as provided by paragraph (j)(3) of this AD. Repeat the inspections at intervals not to exceed 4,500 flight cycles, until accomplishment of the repair/preventive change in accordance with Boeing Alert Service Bulletin 737-53A1197, dated August 25, 2006, which terminates the repetitive inspections.

(i) New Repetitive Inspections: Group 2 Airplanes, Boeing Alert Service Bulletin 737-53A1188, Revision 3, Dated September 6, 2013

For airplanes identified as Group 2 in Boeing Alert Service Bulletin 737-53A1188, Revision 3, dated September 6, 2013: At the applicable times specified in Table 3 of paragraph 1.E., “Compliance,” of Boeing Alert Service Bulletin 737-53A1188, Revision 3, dated September 6, 2013, except as required by paragraph (j)(1) of this AD: Do detailed and HFEC inspections for cracking in the web of the body station 303.9 frame at stringer 15L, and do all applicable corrective actions, in accordance with the Accomplishment Instructions of Boeing Alert Service Bulletin 737-53A1188, Revision 3, dated September 6, 2013, except as required by paragraphs (j)(3) and (j)(4) of this AD. Do all applicable corrective actions before further flight. Repeat the inspection thereafter at the applicable time specified in Table 3 of paragraph 1.E., “Compliance,” of Boeing Alert Service Bulletin 737-53A1188, Revision 3, dated September 6, 2013. Accomplishment of a repair using a method approved in accordance with the procedures specified in paragraph (k) of this AD terminates the repetitive inspections required by this paragraph for the area covered by the repair.

(j) Exceptions to Service Information Specifications

(1) Where Boeing Alert Service Bulletin 737-53A1188, Revision 3, dated September 6, 2013, specifies a compliance time “after the Revision 3 date of this service bulletin,” this AD requires compliance within the specified time after the effective date of this AD.

(2) Where Boeing Alert Service Bulletin 737-53A1197, dated August 25, 2006, specifies a compliance time “After the Date of this Service Bulletin,” this AD requires compliance for paragraph (h) of this AD within the specified time after September 23, 2008 (the effective date of AD 2008-17-03, Amendment 39-15641 (73 FR 48288, August 19, 2008)). For the initial inspection, the grace period for airplanes that have exceeded the specified threshold is extended to 4,500 flight cycles after September 23, 2008 (the effective date of AD 2008-17-03).

(3) Where Boeing Alert Service Bulletin 737-53A1188, Revision 2, dated May 9, 2007; Boeing Alert Service Bulletin 737-53A1188, Revision 3, dated September 6, 2013; and Boeing Alert Service Bulletin 737-53A1197, dated August 25, 2006; specify to contact Boeing for appropriate action, including repair of damage outside the scope of the service information, repair using a method approved in accordance with the procedures specified in paragraph (k) of this AD.

(4) This AD does not require the specific access and restoration instructions identified in the Work Instructions of Boeing Alert Service Bulletin 737-53A1188, Revision 3, dated September 6, 2013; and Boeing Alert Service Bulletin 737-53A1197, dated August 25, 2006. Operators may perform those actions in accordance with approved maintenance procedures.

(k) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(4) AMOCs approved previously for AD 2008-17-03, Amendment 39-15641 (73 FR 48288, August 19, 2008), are approved as AMOCs for the corresponding provisions of this AD.

(l) Related Information

For more information about this AD, contact Nenita Odessa, Aerospace Engineer, Airframe Branch, ANM-120L, FAA, Los Angeles Aircraft Certification Office (ACO), 3960 Paramount Boulevard, Lakewood, California 90712-4137; phone: 562-627-5234; fax: 562-627-5210; email: nenita.odessa@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on January 6, 2015.

(i) Boeing Alert Service Bulletin 737-53A1188, Revision 3, dated September 6, 2013.

(ii) Reserved.

(4) The following service information was approved for IBR on September 23, 2008 (73 FR 48288, August 19, 2008).

(i) Boeing Alert Service Bulletin 737-53A1188, Revision 2, dated May 9, 2007.

(ii) Boeing Alert Service Bulletin 737-53A1197, dated August 25, 2006.

(5) For service information identified in this AD, contact Boeing Commercial Airplanes, Attention: Data & Services Management, P. O. Box 3707, MC 2H-65, Seattle, WA 98124-2207; telephone 206-544-5000, extension 1; fax 206-766-5680; Internet https://www.myboeingfleet.com.

(6) You may view this service information at FAA, Transport Airplane Directorate, 1601 Lind Avenue SW., Renton, WA. For information on the availability of this material at the FAA, call 425-227-1221.

(7) You may view this service information that is incorporated by reference at the National Archives and Records Administration (NARA). For information on the availability of this material at NARA, call 202-741-6030, or go to http://www.archives.gov/federal-register/cfr/ibr-locations.html.

Issued in Renton, Washington, on November 5, 2014.
Jeffrey E. Duven,
Manager, Transport Airplane Directorate, Aircraft Certification Service.

[FR Doc. 2014-27362 Filed 12-1-14; 8:45 am]

BILLING CODE 4910-13-P